DEPARTMENT OF STATE

[Public Notice 6362]

Renewal of the U.S. Advisory Commission for Public Diplomacy

SUMMARY: The Department of State has renewed the Charter of the U.S. Advisory Commission for Public Diplomacy.

The Advisory Commission was originally established under Section 604 of the United States Information and Exchange Act of 1948, as amended (22 U.S.C. 1469) and Section 8 of Reorganization Plan Numbered 2 of 1977. It was reauthorized pursuant to Public Law 111-70 (2009).

The Commission is a bipartisan panel appointed by the President and created by Congress in 1948 to assess public diplomacy policies and programs of the U.S. government and publicly funded nongovernmental organizations. It submits reports to the Congress, the President, and the Secretary of State to develop a better understanding of and support for public diplomacy programs and activities.

FOR FURTHER INFORMATION CONTACT: Carl Chan, ACPD Executive Director) at (202) 632-2823 or via e-mail at chanck@state.gov.

Dated: January 22, 2010.
Carl Chan,
Executive Director, ACPD, Department of State.

[FR Doc. 2010-1865 Filed 1-28-10; 8:45 am]

BILLING CODE 4710-11-P